DEPARTMENT OF TRANSPORTATION

National Highway Traffic Safety Administration

Reports, Forms and Record Keeping Requirements; Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on May 12, 2014 [NHTSA-2014-0049 Volume 79, Number 91, pages 27047 and 27048].

DATES: Comments must be submitted on or before October 8, 2014.

FOR FURTHER INFORMATION CONTACT: Gary R. Toth, Office of Data Acquisition (NVS-410), Room W53-505, 1200 New Jersey Avenue, SE., Washington, DC 20590. The telephone number for Mr. Toth is (202) 366-5378.

SUPPLEMENTARY INFORMATION:

National Highway Traffic Safety Administration

Title: Data Modernization of the National Automotive Sampling System (NASS).

OMB Number: None.

Type of Request: Collection of motor vehicle crash data.

Abstract: The collection of crash data that support the establishment and enforcement of motor vehicle regulations that reduce the severity of injury and property damage caused by motor vehicle crashes is authorized under the National Traffic and Motor Vehicle Safety Act of 1966 (Pub. L. 89-563, Title 1, Sec. 106, 108, and 112). The National Highway Traffic Safety Administration has been investigating motor vehicle traffic crashes and collecting crash data through its National Automotive Sampling System (NASS) Crashworthiness Data System (NASS-CDS) and Special Crash Investigation (SCI) programs. The NASS was designed in the 1970's to collect data from the originally planned 75 data collection sites. Due to demographic changes, the crash population has changed in the country. At the same time, the data needs of the transportation community have increased and significantly changed over the last three decades. For example, the primary focus of the original NASS design was to enhance crashworthiness by providing detailed information about crush damage, restraint system performance and injury mechanisms. In recent years, however, the transportation community has been increasingly more interested in adding data elements related to what happens before a crash and related crash avoidance safety countermeasures. The scope of traffic safety studies has also been expanding. More data is needed from crashes which are not currently included in NASS-CDS, such as those involving large trucks, motorcycles, and pedestrians.

Recognizing the importance as well as the limitations of the current NASS system, NHTSA is undertaking a modernization effort to upgrade our data systems by improving the information technology infrastructure, updating the data we collect and reexamining the sample sites. The goal of this overall modernization effort is to develop a new crash data system that meets current and future data needs. Several data acquisitions systems will be designed to collect record-based information and investigation-based information. The redesigned investigation-based acquisition process will focus on detailed investigation of passenger vehicle crashes and will be referred to as the Crash Investigation Sampling System (CISS).

For the investigation-based acquisition process, once a crash has been selected for investigation, crash technicians locate, visit, measure, and photograph the crash scene; locate, inspect, and photograph vehicles; conduct a telephone or personal interview with the involved individuals or surrogate; and obtain and record injury information received from various medical data sources. These data are used to describe and analyze circumstances, mechanisms, and consequences of high severity motor vehicle crashes in the United States. The collection of interview data aids in this effort.

Affected Public: Passenger Motor Vehicle Operators.

Estimated Annual Burden: 5,605 hours.

Number of respondents: 9,450.

ADDRESSES: Send comments, within 30 days, to the Office of Information and Regulatory Affairs, Office of Management and Budget, 725-17th Street NW., Washington, DC 20503, Attention NHTSA Desk Officer.

Comments are invited on: Whether the proposed collection of information is necessary for the proper performance of the functions of the Department, including whether the information will have practical utility; the accuracy of the Departments estimate of the burden of the proposed information collection; ways to enhance the quality, utility and clarity of the information to be collected; and ways to minimize the burden of the collection of information on respondents, including the use of automated collection techniques or other forms of information technology.

A comment to OMB is most effective if OMB receives it within 30 days of publication.

Issued in Washington, DC.
Terry T. Shelton,
Associate Administrator for National Center for Statistics and Analysis.

[FR Doc. 2014-21236 Filed 9-5-14; 8:45 am]

BILLING CODE 4910-59-P